DEPARTMENT OF LABOR

Employment and Training Administration

[TA-W-72,103]

Terex USA, LLC, Cedar Rapids, IA; Notice of Negative Determination Regarding Application for Reconsideration

By application dated March 8, 2010, the State of Iowa Trade Adjustment Assistance (TAA) Coordinator requested administrative reconsideration of the Department's negative determination regarding eligibility to apply for TAA applicable to workers and former workers of the subject firm. The Notice of negative determination was signed on February 3, 2010. The Department's Notice was published in the Federal Register on March 12, 2010 (74 FR 11925).

The petitioner states in the request for reconsideration that the initial customer survey was limited to only the largest customer of the subject firm and that perhaps many of the subject firm's customers are purchasing imports of products like those produced by the subject firm, and that such purchasing of imports by many small customers could have brought about the worker separations at the subject firm.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination, which was based on the finding that shifts of production of crushing, screening, and paving equipment (types of construction equipment) did not contribute importantly to worker separations at the subject firm and that a major portion of the sales decline of the subject firm can be attributed to a loss of exports and thus is not affected by imports.

During the initial investigation, the subject firm provided sales and contact information for its major declining customers: one domestic customer and three foreign customers. The sole domestic customer constituted 16 percent of the sales decline experienced by the subject firm and the three foreign customers constituted 72 percent of the subject firm's sales decline.

The Department confirmed during the initial investigation that the three foreign customers were purchasing finished articles and not component parts of construction equipment from the subject firm, and determined that the subject firm's declining sales with the three foreign customers was loss of export business by the subject firm. Further, during the initial investigation, the Department had collected aggregate data that shows that imports into the United States of agricultural and construction machinery decreased by almost 40 percent during the relevant period.

Because the export losses and the losses to the sole domestic customer account for 88 percent of the decline in sales for the subject firm and there were decreasing aggregate imports of construction equipment, the Department determined that the customer survey conducted during the initial investigation was appropriate.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC this 1st day of April 2010.
Del Min Amy Chen,
Certifying Officer, Division of Trade Adjustment Assistance.

[FR Doc. 2010-8875 Filed 4-16-10; 8:45 am]

BILLING CODE 4510-FN-P